DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. The Bureau of Labor Statistics (BLS) is soliciting comments concerning the proposed revision of the “Consumer Price Index Commodities and Services Survey.” A copy of the proposed information collection request (ICR) can be obtained by contacting the individual listed below in the ADDRESSES section of this notice.

DATES: Written comments must be submitted to the office listed in the Addresses section of this notice on or before March 12, 2002.

ADDRESSES: Send comments to Amy A. Hobby, BLS Clearance Officer, Division of Management Systems, Bureau of Labor Statistics, Room 3255, 2 Massachusetts Avenue, NE., Washington, DC 20212, telephone number 202-691-7628 (this is not a toll free number).

FOR FURTHER INFORMATION CONTACT: Amy A. Hobby, BLS Clearance Officer, telephone number 202-691-7628. (See ADDRESSES section.)

SUPPLEMENTARY INFORMATION:

I. Background

Under the direction of the Secretary of Labor, the Bureau of Labor Statistics (BLS) is directed by law to collect, collate, and report full and complete statistics on the conditions of labor and the products and distribution of the products of the same; the Consumer Price Index (CPI) is one of these statistics. The collection of data from a wide spectrum of retail establishments and government agencies is essential for the timely and accurate calculation of the Commodities and Services (C&S) component of the CPI.

The CPI is the only index compiled by the U.S. Government that is designed to measure changes in the purchasing power of the urban consumer's dollar. The CPI is a measure of the average change in prices over time paid by urban consumers for a market basket of goods and services.

The CPI is used most widely as a measure of inflation, and serves as an indicator of the effectiveness of government economic policy. It also is used as a deflator of other economic series, that is, to adjust other series for price changes and to translate these series into inflation-free dollars. A third major use of the CPI is to adjust income payments. Over two million workers are covered by collective bargaining contracts which provide for increases in wage rates based on increases in the CPI.

The continuation of the collection of prices for the CPI is essential since the CPI is the nation's chief source of information on retail price changes. If the information on C&S prices were not collected, Federal fiscal and monetary policies would be hampered due to the lack of information on price changes in a major sector of the U.S. economy, and estimates of the real value of the Gross National Product could not be made. The consequences to both the Federal and private sectors would be far-reaching and would have serious repercussions on Federal government policy and institutions.

II. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

A new outlet rotation model introduced during the 1998 revision is now fully deployed. This model results in rotating the full C&S sample every four years.

A new initiative to reinitiate a subset of the currently priced item sample in existing outlets to account for new goods is under development. This initiative is referred to as Item Rotation. Item rotation is a process that allows for the inclusion of new goods when reinitiating existing quotes within currently priced outlets and enables the item sample to be refreshed without the expense and delay of a full Telephone Point of Purchase Survey (TPOPS) rotation. Under this initiative at currently priced outlets for selected item categories the items priced will be reinitiated two years after the original initiation, thus offering the chance that new goods will be selected for pricing. An example is prescription drugs, where under this initiative based on current sales data priced drugs will be reinitiated. Since this reinitiation will include all currently dispensed drugs those that have been introduced since the previous initiation will have a chance to be selected. Over a four year period up to half our priced outlets will be subject to item rotation.

Currently, data for the CPI are recorded on collection schedules by CPI field staff in assigned retail outlets and are mailed to the National Office for processing. A key element nearing completion is to convert all ongoing data collection and transmission to electronic systems. The gradual introduction of a Computer-Assisted Data Collection (CADC) system for the C&S portion of the CPI will begin in the fall of 2002. The use of CADC will result in significant advantages by increasing productivity and improving the overall quality of the CPI. Electronic data collection and transmission will provide long-term savings through a major reduction of mail, paper, and printing costs. Electronic systems will provide an opportunity to reduce data capture and review time, and to improve survey logistics management.

Type of Review: Revision of a currently approved collection.

Agency: Bureau of Labor Statistics.

Title: Consumer Price Index Commodities and Services Survey.

OMB Number: 1220-0039.

Affected Public: Business or other for-profit; not-for-profit institutions; and state, local or tribal government.

Form number | Total number of respondents | Frequency | Total annual responses | Minutes per response (average) | Estimated total burden hours
BLS 3400 | 14,178 | Annual | 14,178 | 4 | 993
BLS 3400A.2 | 19,105 | Annual | 19,105 | 29.76 | 9,486
BLS 3400B | 19,105 | Annual | 19,105 | 25.50 | 8,124
BLS 3400C | 1,375 | Annual | 1,375 | 6 | 138
BLS 3401 | 39,415 | Monthly/Bimonthly | 343,699 | 13.8 | 79,051
Totals | ¹58,520 |  | ²362,804 | ³15 | 97,792
¹ The total number of respondents, 58,520, does not reflect the sum of the number of respondents for the five listed forms because the first form only applies to all of our activities that involve initiation, while the second and third forms involves all initiations plus item rotation. The fourth form is only used in a sub set of outlets being initiated. The fifth form is used only for the regular pricing of sampled outlets. Thus the total individual respondents impacted by the five forms is 39,415 + 19,105 = 58,520 respondents.
² The total annual responses does not reflect the sum of all of the listed responses because, as noted in footnote 1, some forms are used at the same respondent when they are initiated or are part of item rotation. Thus the total annual responses associated with the five forms is 343,699 + 19,105 = 362,804.
³ The sum of minutes represents a weighted average of the minutes per respondent, using annual responses as a weight.

Total Burden Cost (capital/startup): $0.

Total Burden Cost (operating/maintenance): $0.

Comments submitted in response to this notice will be summarized and/or included in the request for Office of Management and Budget approval of the information collection request; they also will become a matter of public record.

Signed at Washington, DC, this 19th day of December, 2001.
Jesús Salinas,
Acting Chief, Division of Management Systems, Bureau of Labor Statistics.

[FR Doc. 02-668 Filed 1-10-02; 8:45 am]

BILLING CODE 4510-24-P